DEPARTMENT OF COMMERCE

National Oceanic and Atmospheric Administration

50 CFR Part 648

[I.D. 122001A]

New England Fishery Management Council; Public Meeting

AGENCY: National Marine Fisheries Service (NMFS), National Oceanic and Atmospheric Administration (NOAA), Commerce.

ACTION: Public meeting.

SUMMARY: The New England Fishery Management Council (Council) will hold a 3-day Council meeting on January 15 through 17, 2002, to consider actions affecting New England fisheries in the U.S. exclusive economic zone (EEZ).

DATES: The meeting will be held on Tuesday, Wednesday, and Thursday, January 15, 16, and 17, 2002. The meeting will begin at 9 a.m. on Tuesday and 8:30 a.m. on Wednesday and Thursday.

ADDRESSES: The meeting will be held at the Courtyard by Marriott, 1000 Market Street, Portsmouth, NH 03801; telephone (603) 436-2121. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, January 15, 2002

Following introductions, the Council will receive a briefing on the status of the U.S./Canada shared resources agreement. The Enforcement Committee will discuss its recommendations concerning the Council’s Enforcement Policy in view of the 9/11 attacks because of United States Coast Guard (USCG) redirection of USCG resources to national security. The Enforcement Committee may possibly discuss Enforcement Committee progress on reviewing Amendment 10 to the Atlantic Sea Scallop Fishery Management Plan (FMP) and Framework Adjustment 1 to the Monkfish FMP. Later in the morning, there will be a Stock Assessment Public Review Workshop during which an advisory report on the status of monkfish, Georges Bank winter flounder, and Loligo squid developed at the 34th Stock Assessment Workshop will be presented. The Council will then begin consideration of monkfish management issues. It intends to approve final action on Framework Adjustment 1 to the Monkfish FMP.

Options under consideration include, but are not limited to: (1) taking no action and allowing the FMP Year 4 default measures to take effect (and eliminating the directed fishery); (2) postponing the Year 4 default measures for one year and adjusting trip limits and days-at-sea allocations to achieve fishing year 2000 landings levels (after accounting for the court-ordered adjustment to the gillnet trip limits) (the preferred alternative); and (3) adjusting management measures to reduce catches to the Years 2 and 3 total allowable catch (TAC) targets. The Council also will consider scoping comments on Amendment 2 to the Monkfish FMP. Amendment 2 will consider updated scientific information in revising overfishing definitions, rebuilding targets and management measures, as appropriate to rebuild stocks to maximum sustainable levels by 2009; reduce overall FMP complexity; update environmental impact documents; consider modifications to the limited entry program for vessels fishing south of the North Carolina/Virginia border; and update the Essential Fish Habitat components.

Wednesday, January 16, 2002

The meeting will reconvene with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. A brief period for general comments from the public concerning fisheries management issues will follow. During the Scallop Committee Report the committee will request approval of additional management alternatives to be included in draft Amendment 10 to the Atlantic Sea Scallop FMP and analyzed in the Draft Supplemental Environmental Impact Statement (DSEIS). Primary issues include alternatives to manage effort by vessels with limited access and general category scallop permits, minimize habitat and bycatch impacts, and address monitoring and data collection issues.

Thursday, January 17, 2002

On the final day of the meeting, the Council plans to approve final management measures to be included in the Deep-Sea Red Crab FMP. Measures under consideration include controlled access, days-at-sea and trip limit programs for the directed red crab fishery, and the establishment of a fishing year for management purposes. There will be an update on the initial meeting of the Council’s Marine Protected Area Committee followed by a report from the Capacity Committee. The Capacity Committee will discuss and seek Council guidance on capacity reduction proposals to be included in Amendment 13 to the Northeast Multispecies FMP. The Groundfish Committee will provide an update on the development of Amendment 13 as well as Framework 36 to the Northeast Multispecies FMP. Prior to addressing any other outstanding business, the Council will consider the development of an FMP for hagfish and possible approval of a control date to determine future access to the fishery.

Although other non-emergency issues not contained in this agenda may come before this Council for discussion, those issues may not be the subjects of formal action during this meeting. Council action will be restricted to those issues specifically listed in this notice and any issues arising after publication of this notice that require emergency action under section 305 (c) of the Magnuson-Stevens Act, provided that the public has been notified of the Council's intent to take final action to address the emergency.

The New England Council will consider public comments at a minimum of two Council meetings before making recommendations to the National Marine Fisheries Service Regional Administrator on any framework adjustment to a fishery management plan. If the Regional Administrator concurs with the adjustment proposed by the Council, the Regional Administrator may publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: December 21, 2001.
Richard W. Surdi,
Acting Director, Office of Sustainable Fisheries, National Marine Fisheries Service

[FR Doc. 01-31973 Filed 12-27-01; 8:45 am]

BILLING CODE 3510-22-S